DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground: Modified | Communities affected
Huron County, Michigan, and Incorporated Areas
Docket No.: FEMA-D-7806
Lake Huron | Entire Shoreline | +583 | City of Harbor Beach, Port Hope, Township of Gore, Township of Huron, Township of Rubicon, Township of Sand Beach, Township of Sherman, Village of Port Austin.
Lake Huron | Entire Shoreline | +583 | City of Harbor Beach, Port Hope, Township of Gore, Township of Huron, Township of Rubicon, Township of Sand Beach, Township of Sherman, Village of Port Austin.
Saginaw Bay | Entire shoreline along the Township of Caseville | +584 | Township of Caseville, Village of Caseville.
Saginaw Bay | Entire shoreline along the Township of Hume | +584 | Township of Hume.
Saginaw Bay | Entire shoreline along the Township of Lake | +584 | Township of Lake.
Saginaw Bay | Entire shoreline along the Township of McKinley | +584 | Township of Mckinley.
Saginaw Bay | Entire shoreline along the Township of Fairhaven | +585 | Township of Fairhaven.
Saginaw Bay | Entire shoreline along the Township of Sebewaing | +585 | Township of Sebewaing.
Saginaw Bay | Entire shoreline along the Township of Port Austin | +583 | Village of Port Austin, Township of Pointe Aux Barques.
Sebewaing River/State Drain | At the confluence with Saginaw Bay | +585 | Township of Sebewaing.
| At Bay Street | +593
* National Geodetic Vertical Datum.
+ North American Vertical Datum.
# Depth in feet above ground.
ADDRESSES
City of Harbor Beach
Maps are available for inspection at 766 State Street, Harbor Beach, MI 48441.
Port Hope
Maps are available for inspection at 4250 Lakeshore Drive, Port Hope, MI 48468.
Township of Caseville
Maps are available for inspection at 6767 Main Street, Caseville, MI 48725.
Township of Fairhaven
Maps are available for inspection at 9811 Main Street, Bay Port, MI 48759.
Township of Gore
Maps are available for inspection at 6980 Moeller Road, Port Hope, MI 48468.
Township of Hume
Maps are available for inspection at 1918 Oak Beach Road, Port Austin, MI 48467.
Township of Huron
Maps are available for inspection at 5150 Kaufman Road, Port Hope, MI 48468.
Township of Lake
Maps are available for inspection at 6064 Dufty Road, Caseville, MI 48725.
Township of McKinley
Maps are available for inspection at 2701 Sturm Road, Pigeon, MI 48755.
Township of Pointe Aux Barques
Maps are available for inspection at 9219 Linwood Road, Port Austin, MI 48467.
Township of Rubicon
Maps are available for inspection at 3195 N. Lakeshore Road, Port Hope, MI 48468.
Township of Sand Beach
Maps are available for inspection at 8665 Lincoln Road, Harbor Beach, MI 48441.
Township of Sebewaing
Maps are available for inspection at 108 W. Main, Sebewaing, MI 48759.
Township of Sherman
Maps are available for inspection at 4599 S. Ruth Road, Ruth, MI 48470.
Village of Caseville
Maps are available for inspection at 6767 Main Street, Caseville, MI 48725.
Village of Port Austin
Maps are available for inspection at 17 W. State Street, Port Austin, MI 48467.
Village of Ubly
Maps are available for inspection at 2241 Pierce Street, Ubly, MI 48475.
McNairy County, Tennessee, and Incorporated Areas
Docket No.: FEMA-B-7749
Bank Creek | Approximately 2,870 feet downstream of Old Stage Road | +413 | Unincorporated Areas of McNairy County.
| Approximately 350 feet upstream of Stafford Bottoms Road | +416
Clarey Branch | Just upstream of U.S. Highway 64 | +404 | Town of Adamsville, Unincorporated Areas of McNairy County.
| Approximately 750 feet upstream of State Highway 224 | +405
Lick Creek | Approximately 3,700 feet downstream of Old Stage Road | +411 | Unincorporated Areas of McNairy County.
| Approximately 4,840 feet upstream of State Highway 224 | +415
Snake Creek | Approximately 105 feet downstream of U.S. Highway 64 | +403 | Town of Adamsville, Unincorporated Areas of McNairy County.
| Approximately 600 feet downstream Old Stage Road | +415
* National Geodetic Vertical Datum.
+ North American Vertical Datum.
# Depth in feet above ground.
ADDRESSES
Town of Adamsville
Maps are available for inspection at 231 East Main Street, Adamsville, TN 38310.
Unincorporated Areas of McNairy County
Maps are available for inspection at 170 West Court, Selmer, TN 38375.
Hanover County, Virginia, and Incorporated Areas
Docket No.: FEMA-B-7760
Beaverdam Creek | Approximately 384 feet downstream of Old State Route 156 | *91 | Unincorporated Areas of Hanover County.
| Approximately 6,450 feet upstream of the Woodbridge Road | *151
Bull Run | Approximately 1260 feet upstream of the confluence with North Anna River | *75 | Unincorporated Areas of Hanover County.
| Approximately 1,344 feet upstream of the confluence with North Anna River | *75
Crump Creek | At approximately 2800 feet downstream of River Road | *39 | Unincorporated Areas of Hanover County.
| Approximately at New Britton Road | *191
Lickinghole Creek | Approximately 643 feet upstream from the confluence with Stony Run | *126 | Unincorporated Areas of Hanover County.
| Approximately at Design Road | *220
Little River | Approximately at State Route 688 (Doswell Road) | *95 | Unincorporated Areas of Hanover County.
| Approximately 7,000 feet upstream from the confluence with Locust Creek | *218
Mechumps Creek | Approximately 3,258 feet upstream of Route 301 | *50 | Town of Ashland, Unincorporated Areas of Hanover County.
| Approximately at Route 1 | *211
North Anna River | Approximately 3.4 miles upstream of Route 1 | *104 | Unincorporated Areas of Hanover County.
| Approximately 3,015 feet upstream from Greek Bay Road | *201
Pamunkey River | Approximately 860 feet downstream of the confluence with Whitting Swamp | *11 | Unincorporated Areas of Hanover County.
| Approximately at the confluence with North Anna Creek and South Anna Creek | *60
South Anna Creek | Approximately at State Route 54 | *110 | Unincorporated Areas of Hanover County.
| Approximately 10,750 feet upstream of the confluence with Turkey Creek | *214
Stony Run | Approximately 50 feet upstream of Route 682 | *131 | Town of Ashland, Unincorporated Areas of Hanover County.
| Approximately at Elmont Road | *220
Totopotomoy River | Approximately 2,000 feet downstream of the River Road | *28 | Unincorporated Areas of Hanover County.
| Approximately at Sliding Hill Road | *173
Tributary to Beaverdam Creek | Approximately 580 feet upstream of the confluence with Beaverdam Creek | *140 | Unincorporated Areas of Hanover County.
| Approximately 1,474 feet upstream of the confluence with Beaverdam Creek | *140
* National Geodetic Vertical Datum.
+ North American Vertical Datum.
# Depth in feet above ground.
ADDRESSES
Town of Ashland
Maps are available for inspection at 101 Thompson Street, Ashland, VA 23005.
Unincorporated Areas of Hanover County
Maps are available for inspection at Department of Public Works, 7497 County Complex Road, Government Administration Building H, Hanover, VA 23069.

(Catalog of Federal Domestic Assistance No. 97.022, “Flood Insurance.”)

Dated: June 10, 2008.
David I. Maurstad,
Federal Insurance Administrator of the National Flood Insurance Program, Department of Homeland Security, Federal Emergency Management Agency.

[FR Doc. E8-13930 Filed 6-19-08; 8:45 am]

BILLING CODE 9110-12-P